DEPARTMENT OF THE INTERIOR

[Docket No. ONRR-2012-0003 DS63600000 DR2PS0000.PX8000 134D0102R2]

U.S. Extractive Industries Transparency Initiative Public Outreach

AGENCY: Office of the Secretary, Interior.

ACTION: Notice.

SUMMARY: This notice announces the public outreach sessions of the U.S. Extractive Industries Transparency Initiative (USEITI) candidacy application. By this notice, Interior is providing the public advance notice of the opportunity to comment on the application between September 18, 2013, and November 4, 2013. Comments may be provided in writing or in person at the public outreach sessions or public webinar, or online at www.doi.gov/eiti.

DATES: The public outreach sessions will be from 4:00 p.m.-7:00 p.m. local times and webinar 3:00 p.m.-5:00 p.m. local time. Dates and locations are:

Session 1—September 24, 2013, New Orleans, Louisiana Public Outreach, Offices of the Bureau of Ocean Energy Management & Bureau of Safety and Environmental Enforcement, Elmwood Towers, 1201 Elmwood Park Boulevard, Room 125, New Orleans, Louisiana 70123;

Houston, Texas Public Outreach, Houston Firefighters' Relief and Retirement Fund, 4225 Interwood North Parkway, Houston, Texas 77032;

Session 2—October 2, 2013, Public Outreach Webinar, to view presentation via WebEx at http://bit.ly.ZQ9aQP and dial into a moderated conference line at 888-456-0321 (Passcode: EITI);

Session 3—October 10, 2013, Pittsburgh, Pennsylvania Public Outreach, Office of Surface Mining Reclamation and Enforcement, 3 Parkway Center, 2nd Floor, Pittsburgh, Pennsylvania 15220;

Session 4—October 22, 2013, Denver, Colorado Public Outreach, Office of Natural Resources Revenue, 6th & Kipling Street Denver Federal Center, Building 85-A, Denver, Colorado 80225; and Anchorage, Alaska, Public Outreach, Offices of Bureau of Ocean Energy Management & Bureau of Safety and Environmental Enforcement, Centerpoint Financial Center, 3801 Centerpoint Drive, Suite 100, Anchorage, Alaska 99503.

FOR FURTHER INFORMATION CONTACT: Rosita Compton Christian, USEITI Secretariat; 1849 C Street NW., MS 4211, Washington DC 20240. You may also contact the USEITI Secretariat via email at useiti@ios.doi.gov, by phone at 202-208-0272 or by fax at 202-513-0682.

SUPPLEMENTARY INFORMATION: The U.S. Department of the Interior established the USEITI Advisory Committee (Committee) on July 26, 2012, to serve as the initial USEITI multi-stakeholder group. More information about the Committee, including its charter, can be found at www.doi.gov/eiti/faca.

The Public Outreach sessions will share, explain, and obtain public feedback for the MSG on the draft USEITI Candidacy Application which can be found at http://www.doi.gov/eiti/FACA/sept-meeting.cfm. These sessions will include the EITI candidacy requirements, implementation requirements, and the benefits of implementing EITI in the United States.

We encourage stakeholders and members of the public to participate in the public comment period held from September 15-November 1, 2013, to gather feedback on the draft USEITI Candidacy Application. During the September 15-November 1 public comment period, three public outreach sessions and a public webinar will be held as listed previously in this notice. Further details regarding these sessions will be provided in advance online at www.doi.gov/eiti. The candidacy application and comments about it can be made online at www.doi.gov/eiti.

Background: In September 2011, President Barack Obama announced the United States' commitment to participate in the Extractive Industries Transparency Initiative. EITI is a signature initiative of the U.S. National Action Plan for the international Open Government Partnership and offers a voluntary framework for governments and companies to publicly disclose in parallel the revenues paid and received for extraction of oil, gas, and minerals owned by the state. The design of each framework is country-specific and is developed through a multi-year, consensus-based process by a multi-stakeholder group comprised of government, industry, and civil society representatives.

Dated: September 12, 2013.
Amy Holley,
Chief of Staff—Policy, Management and Budget.

[FR Doc. 2013-22642 Filed 9-17-13; 8:45 am]

BILLING CODE 4310-T2-P